DEPARTMENT OF EDUCATION

34 CFR Chapter III

Proposed Waiver and Extension of the Project Period for the Individuals With Disabilities Education Act (IDEA) Partnership Project

AGENCY: Office of Special Education Programs (OSEP), Office of Special Education and Rehabilitative Services (OSERS), Department of Education.

ACTION: Proposed waiver and extension of the project period.

[Catalog of Federal Domestic Assistance (CFDA) Number: 84.326A.]

SUMMARY: For the currently funded IDEA Partnership Project (Partnership Project) grantee, the Secretary proposes to waive the requirements that generally prohibit project periods exceeding five years and project period extensions involving the obligation of additional Federal funds. The Secretary also proposes to extend current project period for one year. The proposed waiver and extension of the project period would enable the currently funded Partnership Project grantee to receive funding from October 1, 2013, through September 30, 2014.

DATES: We must receive your comments on or before September 3, 2013.

ADDRESSES: Address all comments about this proposed waiver and extension of the project period to Renee Bradley, U.S. Department of Education, 400 Maryland Avenue SW., room 4103, Potomac Center Plaza (PCP), Washington, DC 20202-2600.

If you prefer to send your comments by email, use the following address: renee.bradley@ed.gov. You must include the phrase “Proposed waiver and extension of the project period” in the subject line of your message.

FOR FURTHER INFORMATION CONTACT: Renee Bradley. Telephone: (202) 245-7277, or by email: renee.bradley@ed.gov.

If you use a telecommunications device for the deaf (TDD) or a text telephone (TTY), call the Federal Relay Service (FRS), toll free, at 1-800-877-8339.

SUPPLEMENTARY INFORMATION:

Invitation to Comment: We invite you to submit comments regarding this proposed waiver and extension. During and after the comment period, you may inspect all public comments about this proposed waiver and extension of the project period in room 4103, PCP, 550 12th Street, SW., Washington, DC, between the hours of 8:30 a.m. and 4:00 p.m., Washington, DC time, Monday through Friday of each week, except Federal holidays.

Assistance to Individuals with Disabilities in Reviewing the Rulemaking Record: On request, we will provide an appropriate accommodation or auxiliary aid to an individual with a disability who needs assistance to review the comments or other documents in the public rulemaking record for this notice. If you want to schedule an appointment for this type of aid, please contact the person listed under FOR FURTHER INFORMATION CONTACT.

Background

On July 15, 2008, the Department published a notice in the Federal Register (73 FR 40548) inviting applications for new awards for fiscal year (FY) 2008 for the Partnership Project funded under the Technical Assistance and Dissemination to Improve Services and Results for Children with Disabilities (TA&D) program, authorized under section 663 of IDEA. The Partnership Project is intended to provide opportunities for national associations to collaborate with each other and with their collective State and local affiliates to improve the implementation of education policies and practices in States. The goal of the Partnership Project is also intended to bridge the gap between research, policy, and practice in both special education and general education so that the needs of all students can be meaningfully addressed. The Partnership Project has worked to unite multiple national associations, and their State and local affiliates, representing policymakers, service providers, local-level administrators, and families to improve the implementation of IDEA and outcomes for students with disabilities. These associations and their State and local affiliates need continued support to engage in meaningful dialogue, continual learning, and problem solving that will improve the implementation of IDEA and outcomes for students with disabilities.

The Department made one award for a period of 60 months to the National Association of State Directors of Special Education (NASDSE) to establish the Partnership Project. The current project period is scheduled to end on September 30, 2013.

The Partnership Project links the expertise and resources available through the OSEP Technical Assistance and Dissemination Network with stakeholder organizations to build innovative dissemination strategies. The Partnership Project has developed and enhanced tools and strategies to improve the collaboration and engagement of stakeholder organizations linked with State improvement efforts to implement evidence-based practices, improve the implementation of IDEA, and improve outcomes for children with disabilities within general education reform efforts. Engagement tools and strategies include: (1) Various Dialogue Guides, focused on education reform efforts such as standards-based assessment, college- and career-readiness, and the school-to-prison pipeline; (2) communities of practice development and implementation; and (3) stakeholder engagement protocols.

At this time, we do not believe that it would be in the public interest to run a competition for a new Partnership Project because the Department is planning to change the organization of its technical assistance (TA) activities to better meet the needs of States and local affiliates and families. We also have concluded that it would be contrary to the public interest to have a lapse in the provision of the TA services currently provided by the Partnership Project pending the changes to the organization of the Department's TA activities.

For these reasons, the Secretary proposes to waive the requirements in 34 CFR 75.250, which prohibit project periods exceeding five years, and waive the requirements in 34 CFR 75.261(a) and (c)(2), which allow the extension of a project period only if the extension does not involve the obligation of additional Federal funds. The Secretary further proposes to issue a continuation award in the amount of $1,699,000 to NASDSE for an additional 12-month period. This continuation award should ensure that the Partnership Project's TA, coordinated training, outreach, and dissemination of information to the partners' State and local affiliates and families will not be interrupted.

Any activities to be carried out during the year of the continuation award would have to be consistent with, or be a logical extension of, the scope, goals, and objectives of the grantee's application as approved in the 2008 Partnership Project competition.

If the proposed waiver and extension of the project period are announced in a final notice in the Federal Register, the requirements applicable to continuation awards for this competition set forth in the July 15, 2008, notice inviting applications and the requirements in 34 CFR 75.253 would apply to any continuation awards sought by the current IDEA Partnership grantee. If we announce the waiver and extension as final, we will base our decisions regarding a continuation award on the program narrative, budget, budget narrative, and program performance report submitted by the current grantee, as well as the requirements in 34 CFR 75.253.

Regulatory Flexibility Act Certification

The Department certifies that the proposed waiver and extension of the project period would not have a significant economic impact on a substantial number of small entities. The only entity that would be affected by the proposed waiver and extension of the project period is the current grantee.

The Secretary certifies that the proposed waiver and extension would not have a significant economic impact on this entity because the proposed waiver and extension of the project period imposes minimal compliance costs, and the activities required to support the additional year of funding would not impose additional regulatory burdens or require unnecessary Federal supervision.

Paperwork Reduction Act of 1995

This notice of proposed waiver and extension of the project period does not contain any information collection requirements.

Intergovernmental Review: This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 29, 2013.
Michael K. Yudin,
Acting Assistant Secretary for Special Education and Rehabilitative Services.

[FR Doc. 2013-18529 Filed 8-1-13; 8:45 am]

BILLING CODE 4000-01-P